CORPORATION FOR NATIONAL AND COMMUNITY SERVICE

Sunshine Act; Notice of Closed Meeting

AGENCY: Corporation for National and Community Service.

ACTION: Notice of closed meeting of the Board of Directors.

SUMMARY: On Thursday, February 3, 2005, a majority of the Board of Directors (Board) of the Corporation for National and Community Service (Corporation) voted, pursuant to 45 CFR 2505.4, to close public observation for a meeting on February 7, 2005. The meeting to be closed involves discussions of the draft AmeriCorps rulemaking proposal the Corporation plans to submit to the Office of Management and Budget rulemaking docket. The vote followed a determination, in accordance with the Government in the Sunshine Act and the Corporation's regulations, that Board business required this discussion without the delay that would be necessary to make a public announcement at least one week before the meeting, in accordance with 45 CFR 2505.6. In accordance with 45 CFR 2505.5(e), the Corporation's General Counsel has certified that, in his opinion, the meeting to be closed could properly be closed to public observation on the grounds that disclosing the information to be discussed to the public prematurely would significantly frustrate implementation of a proposed agency action, pursuant to 45 CFR 2505.4(h)(i). The Board accepted that determination in voting to close the meeting.

As provided in 45 CFR 2505.5(c), the members of the Board voting in favor of closing the meeting were: Stephen Goldsmith; Dorothy Johnson; Donna Williams; Cynthia Burleson; Henry Lozano; Leona White Hat; and William Schambra.

The Corporation expects the following Corporation for National and Community staff to attend the closed meeting: David Eisner, Chief Executive Officer; Andrew Klein, Acting Chief Financial Officer; Amy Mack, Chief of Staff; Frank Trinity, General Counsel; Rosie Mauk, Director of AmeriCorps; Kathy Ott, Director of Government Relations; Robert Grimm, Director of Research and Policy Development; Nicola Goren, Associate General Counsel; Susannah Washburn, Senior Advisor to the CEO; Carol Bates, Acting Inspector General; and Vincent Mulloy, Counsel to the Inspector General. In addition, the Corporation expects the following members of the Board of Directors to attend: Stephen Goldsmith (Chair); Dorothy Johnson; Donna Williams; Cynthia Burleson; Carol Kinsley; Henry Lozano; William Schambra; Mimi Mager; Mark Gearan; Jacob Lew; Leona White Hat, as well as Alan Solomont, immediate past Chair of the Board's rulemaking committee, and Juanita Doty, immediate past chair of the Board's communications committee.

FOR FUTHER INFORMATION CONTACT: For further information, contact Frank Trinity, General Counsel, at (202) 606-5000 ext. 256.

Dated: February 3, 2005.
Frank R. Trinity,
General Counsel.

[FR Doc. 05-2496 Filed 2-4-05; 11:43 am]

BILLING CODE 6050-$$-P